DEPARTMENT OF COMMERCE

Foreign-Trade Zones Board

[B-65-2021]

Foreign-Trade Zone 27—Boston, Massachusetts; Application for Subzone; OBlockz LLC, Lawrence, Massachusetts

An application has been submitted to the Foreign-Trade Zones (FTZ) Board by the Massachusetts Port Authority, grantee of FTZ 27, requesting subzone status for the facility of OBlockz LLC, located in Lawrence, Massachusetts. The application was submitted pursuant to the provisions of the Foreign-Trade Zones Act, as amended (19 U.S.C. 81a-81u), and the regulations of the FTZ Board (15 CFR part 400). It was formally docketed on September 23, 2021.

The proposed subzone (14.49 acres) is located at 46 Stafford Street, Lawrence, Essex County. No authorization for production activity has been requested at this time. In accordance with the FTZ Board's regulations, Elizabeth Whiteman of the FTZ Staff is designated examiner to review the application and make recommendations to the FTZ Board.

Public comment is invited from interested parties. Submissions shall be addressed to the FTZ Board's Executive Secretary and sent to: ftz@trade.gov. The closing period for their receipt is November 8, 2021. Rebuttal comments in response to material submitted during the foregoing period may be submitted during the subsequent 15-day period to November 23, 2021.

A copy of the application will be available for public inspection in the “Online FTZ Information Section” section of the FTZ Board's website, which is accessible via www.trade.gov/ftz.

For further information, contact Elizabeth Whiteman at Elizabeth.Whiteman@trade.gov.

Dated: September 23, 2021.
Andrew McGilvray,
Executive Secretary.

[FR Doc. 2021-21122 Filed 9-28-21; 8:45 am]

BILLING CODE 3510-DS-P